DEPARTMENT OF COMMERCE

National Oceanic and Atmospheric Administration

[Docket No. 011102267-2064-02; I.D. No. 102301B]

Financial Assistance for Marine Mammal Stranding Networks Through the John H. Prescott Marine Mammal Rescue Assistance Grant Program

AGENCY: National Marine Fisheries Service (NMFS), National Oceanic and Atmospheric Administration (NOAA), Commerce.

ACTION: Notice of solicitation for applications, re-opening receipt of application date.

SUMMARY: The National Marine Fisheries Service (NMFS) published a document in the Federal Register of January 14, 2002, concerning the solicitation of competitive applications under the John H. Prescott Marine Mammal Rescue Assistance Grant Program (Prescott Stranding Grant Program). This document re-opens the receipt of application date for no later than 5 p.m., (local time) on April 8, 2002.

DATES: The closing date for receipt of applications has been re-opened until April 8, 2002. You must submit one signed original and two copies of the completed application (including supporting information). We will not accept facsimile or electronic applications.

ADDRESSES: We must receive your application by 5 p.m. (E.S.T.) April 8, 2002. in one of the offices designated in the Federal Register issue of January 14, 2002 (67 FR 1720).

FOR FURTHER INFORMATION CONTACT: Dr. Teri Rowles, Marine Mammal Health and Stranding Response Program 301-713-2322 ext. 178 or via e-mail: Teri.Rowles@noaa.gov.

SUPPLEMENTARY INFORMATION:

Electronic Access

This solicitation, the application package, and supplementary documents are available on the NMFS Office of Protected Resources Home Page at: http://www.nmfs.noaa.gov/prot_res/PR2/ Health_and_Stranding_Response_ Program/Prescott.html.

Title IV of the Marine Mammal Protection Act, the Marine Mammal Health and Stranding Response Program is available at: www.nmfs.noaa.gov/prot_res/laws/MMPA/MMPA.html.

Information on MMPA and ESA research and enhancement permits can be found at: http://www.nmfs.noaa.gov/prot_res/PR1/Permits/pr1permits_types.html.

Background

In the Federal Register notice issue of January 14, 2002, (67 FR 1720) under DATES change the date from March 15, 2002 to April 8, 2002. Applications will be accepted until 5 p.m. E.S.T. Any proposals that were received in the period after the original closing date of March 15 and before March 25, 2002. will be considered by the program and do not need to re-apply.

Dated: March 19, 2002.
Rebecca Lent,
Deputy Assistant Administrator for Regulatory Programs, National Marine Fisheries Service.

[FR Doc. 02-7104 Filed 3-20-02; 3:04 pm]

BILLING CODE 3510-22-S